DEPARTMENT OF LABOR

Employment and Training Administration

[TA-W-91,257]

Huntley Power LLC, A Subsidiary Of NRG Energy, Inc., Including On-Site Leased Workers From Pontoon Solutions, Inc. And Clean MD Tonawanda, New York; Amended Certification Regarding Eligibility To Apply for Worker Adjustment Assistance

In accordance with Section 223 of the Trade Act of 1974, as amended (“Act”), 19 U.S.C. 2273, the Department of Labor issued a Certification of Eligibility to Apply for Worker Adjustment Assistance on January 29, 2016, applicable to workers of Huntley Power LLC, a subsidiary of NRG Energy, Inc., including on-site leased workers from Pontoon Solutions, Inc., Tonawanda, New York (TA-W-91,257). The Department's notice of determination was published in the Federal Register on February 25, 2016 (81 FR 9510).

At the request of the International Brotherhood of Electrical Workers, Local Union 97, the Department reviewed the certification for workers of the subject firm. The workers firm is engaged in activities related to the supply of electrical generation, capacity and ancillary services. The Tonawanda facility is a coal-fired electric generation facility.

The company reports that workers leased from Clean MD were employed on-site at the Tonawanda, New York location of Huntley Power LLC, a subsidiary of NRG Energy, Inc. The Department has determined that these workers were sufficiently under the control of the subject firm to be considered leased workers.

The intent of the Department's certification is to include all workers of the subject firm who were adversely affected by customer imports of electricity from a foreign country.

Based on these findings, the Department is amending this certification to include workers leased from Clean MD working on-site at the Tonawanda, New York location of the subject firm.

The amended notice applicable to TA-W-91,257 is hereby issued as follows:

All workers from Huntley Power LLC, a subsidiary of NRG Energy, Inc., including on-site leased workers from Pontoon Solutions, Inc. and Clean MD, Tonawanda, New York who became totally or partially separated from employment on or after December 22, 2014 through January 29, 2018, and all workers in the group threatened with total or partial separation from employment on date of certification through two years from the date of certification, are eligible to apply for adjustment assistance under Chapter 2 of Title II of the Trade Act of 1974, as amended.

Signed in Washington, DC, this 19th day of September 2016.
Hope D. Kinglock,
Certifying Officer, Office of Trade Adjustment Assistance.

[FR Doc. 2016-26997 Filed 11-8-16; 8:45 am]

BILLING CODE 4510-FN-P